DEPARTMENT OF THE INTERIOR

National Park Service

[NPS-WASO-NAGPRA-11194; 2200-1100-665]

Notice of Inventory Completion: San Francisco State University, NAGPRA Program, San Francisco, CA

AGENCY: National Park Service, Interior.

ACTION: Notice.

SUMMARY: The San Francisco State University NAGPRA Program has completed an inventory of human remains and associated funerary objects, in consultation with the appropriate Indian tribe, and has determined that there is a cultural affiliation between the human remains and associated funerary objects and a present-day Indian tribe. Representatives of any Indian tribe that believes itself to be culturally affiliated with the human remains and associated funerary objects may contact the San Francisco State University NAGPRA Program. Repatriation of the human remains and associated funerary objects to the Indian tribe stated below may occur if no additional claimants come forward.

DATES: Representatives of any Indian tribe that believes it has a cultural affiliation with the human remains and associated funerary objects should contact the San Francisco State University NAGPRA Program at the address below by October 29, 2012.

ADDRESSES: Jeffrey Boland Fentress, San Francisco State University NAGPRA Program, c/o Department of Anthropology, San Francisco State University, 1600 Holloway Avenue, San Francisco, CA 94132, telephone (415) 338-3075.

SUPPLEMENTARY INFORMATION: Notice is here given in accordance with the Native American Graves Protection and Repatriation Act (NAGPRA), 25 U.S.C. 3003, of the completion of an inventory of human remains and associated funerary objects in the possession of the San Francisco State University NAGPRA Program. The human remains were removed from Marin and Sonoma counties, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the San Francisco State University NAGPRA Program professional staff in consultation with representatives of the Federated Indians of Graton Rancheria, California.

History and Description of the Remains

In 1989, human remains representing, at minimum, one individual were removed from site CA-MRN-127 in Marin County, CA, by Holman and Associates during construction at the Marin County Civic Center. San Francisco State University received the collection in 2010. No known individuals were identified. The 56 associated funerary objects are 23 pieces of obsidian debitage, 2 obsidian projectile points, 4 individual pieces and 6 lots of chert debitage, 4 pieces of quartz, 11 bone tools, 1 pestle, 1 olivella bead, 1 trade bead, 1 lot of soil from the burial matrix, and 2 manuports. A radiocarbon date of A.D. 1600±50, obsidian hydration readings, and artifact typology indicate site CA-MRN-127 contains Augustine Pattern components.

In 1967, human remains representing, at minimum, three individuals were removed from site CA-MRN-365 in Marin County, CA, by San Francisco State University during an archaeological field class under the direction of Thomas F. King. No known individuals were identified. No associated funerary objects are present. Based on artifact typology, the site dates to circa 1000 B.C.-A.D 1500 and contains Berkeley to Augustine Pattern components.

In 1971, human remains representing, at minimum, ten individuals were removed from site CA-MRN-402 in Marin County, CA, by San Francisco State University during an archaeological field class under the direction of Charles Slaymaker and Winfield Henn. No known individuals were identified. The 20 associated funerary objects are 1 obsidian tool, 7 chert tools, 6 bone tools, 3 quartz crystals, and 3 lots of chert and obsidian debitage. Ethnographic accounts and artifact typology indicated the site dates to circa A.D. 1100-1884 and contains Augustine Pattern components along with ethnohistoric and historic era materials.

In 1997, human remains representing, at minimum, one individual were removed from site CA-SON-227 in Sonoma County, CA, by Origer and Associates in conjunction with proposed construction at Sear Point Raceway. San Francisco State University received the collection in 2010. No known individuals were identified. The 15 associated funerary objects are 11 obsidian tools and debitage and 4 chert tools and debitage. Obsidian hydration readings and artifact typology indicate that site dates anywhere from circa A.D. 1000 to the time of European contact and contains Augustine Pattern components.

Archeological evidence indicates that the Penutian-speaking proto-Miwok people were settled in Marin and southern Sonoma counties, CA, circa 2000 B.C.-A.D. 1500. Ancestral Coast Miwok have been identified on the basis of similarities between the archeological record and historic material culture as early as 500 B.C. Ethnographic records show that the Coast Miwok occupied all of Marin County at the time of European contact. The ethnographic and archeological evidence, along with consultation with representatives of the Federated Indians of Graton Rancheria, California, indicates that all Native American sites in Marin County, CA, and site CA-SON-227 in Sonoma County, CA are culturally affiliated with descendants of the Coast Miwok. Descendants of the Coast Miwok are members of the Federated Indians of Graton Rancheria, California.

Determinations Made by the San Francisco State University

Officials of the San Francisco State University NAGPRA Program have determined that:

• Pursuant to 25 U.S.C. 3001(9), the human remains described in this notice represent the physical remains of 15 individuals of Native American ancestry.

• Pursuant to 25 U.S.C. 3001(3)(A), the 91 objects described above are reasonably believed to have been placed with or near individual human remains at the time of death or later as part of the death rite or ceremony.

• Pursuant to 25 U.S.C. 3001(2), there is a relationship of shared group identity that can be reasonably traced between the Native American human remains and associated funerary objects and the Federated Indians of Graton Rancheria, California.

Additional Requestors and Disposition

Representatives of any Indian tribe that believes itself to be culturally affiliated with the human remains and associated funerary objects should contact Jeffrey Boland Fentress, San Francisco State University NAGPRA Program, c/o Department of Anthropology, San Francisco State University, 1600 Holloway Avenue, San Francisco, CA 94132, telephone (415) 338-3075 before October 29, 2012. Repatriation of the human remains to Federated Indians of Graton Rancheria, California, may proceed after that date if no additional claimants come forward.

The San Francisco State University NAGPRA Program is responsible for notifying the Federated Indians of Graton Rancheria, California and the Dry Creek Rancheria Band of Pomo Indians, California that this notice has been published.

Dated: August 30, 2012.
Sherry Hutt,
Manager, National NAGPRA Program.

[FR Doc. 2012-23918 Filed 9-27-12; 8:45 am]

BILLING CODE 4312-50-P